DEPARTMENT OF TRANSPORTATION

Federal Aviation Administration

Agency Information Collection Activities: Requests for Comments; Clearance of Renewed Approval of Information Collection: New England Region Aviation Expo Database

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on September 23, 2011, vol. 76, no. 185, page 59186. The New England Region Aviation Expo database performs conference registration and helps plan the logistics and non-pilot courses for the expo.

DATES: Written comments should be submitted by January 3, 2012.

FOR FURTHER INFORMATION CONTACT: Kathy DePaepe at (405) 954-9362, or by email at: Kathy.A.DePaepe@faa.gov.

SUPPLEMENTARY INFORMATION: OMB Control Number: 2120-0738.

Title: New England Region Aviation Expo Database.

Form Numbers: There are no FAA forms associated with this collection.

Type of Review: Renewal of an information collection.

Background: The data will be used by a collaboration of volunteers from different Lines of Business. within the FAA to form a committee. The committee members consist of Regions and Center (ARC), Airports (ARP), Air Traffic Organization (ATO), and Aviation Safety (AVS). The committee members will use the data to help plan the courses and expo itself. The New England Region Aviation Expo database performs conference registration and helps plan logistics and non-pilot courses.

Respondents: Approximately 500 participants.

Frequency: Information is collected once annually.

Estimated Average Burden per Response: 15 minutes.

Estimated Total Annual Burden: 2 hours.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW., Washington, DC 20503.

Public Comments Invited: You are asked to comment on any aspect of this information collection, including: (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

Jonathan E. Jones,
Acting Program Manager, IT Enterprises Business Services Division, AES-200.

[FR Doc. 2011-30891 Filed 11-30-11; 8:45 am]

BILLING CODE 4910-13-P